Proclamation 9352 of October 16, 2015

National Forest Products Week, 2015

By the President of the United States of America

A Proclamation

America's forests have defined the landscapes of our country's natural beauty for centuries, and protecting them is imperative to preserving our world for future generations. In addition to providing renewable energy, wildlife habitat, soil health, local foods, and water, they purify the air we breathe and support an industry that employs more than one million Americans. Each day, we use a wide range of forest products—from the wood in our homes to the paper we write on to the packaging that protects our food, medicine, and other goods we rely on. During National Forest Products Week, we recognize the ways in which our Nation's forests contribute to our livelihood and recommit to ensuring their health and stability for centuries to come.

Forests today are at risk due to increasingly extreme wildfires, droughts, severe outbreaks of insects and disease, and climate change. My Administration is committed to sustaining their health and resiliency and to increasing the pace and scale of forest restoration. By collaborating with States, local governments, tribes, industry, private land owners, and other partners, we are working to ensure our forests stay strong and the trails that wind throughout remain intact for all to enjoy. As part of our effort to address climate change, we launched the Climate Action Plan, which recognizes that forests are critical to our effort to address carbon pollution and that we must conserve and restore our forests to protect biodiversity, water resources, and our livelihoods. Additionally, through our America's Great Outdoors Initiative, we are enabling individuals and communities in every corner of our country to take up the cause of safeguarding these natural wonders.

The natural resources and materials provided by forests are essential to our way of life. From timber to biofuels, forests can provide sustainable sources of important goods, and America will continue to benefit from their strength and vitality. Healthy forests lead to a strong economy, a clean environment, and a sustainable future for all our people. During National Forest Products Week, let us rededicate ourselves to preserving them and pledge to always remember the irreplaceable role they play in our lives.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 18 through October 24, 2015, as National Forest Products Week. I call on the people of the United States to join me in recognizing the dedicated individuals who are responsible for the stewardship of our forests and for the preservation, management, and use of these precious natural resources for the benefit of the American people.

IN WITNESS WHEREOF, I have hereunto set my hand this sixteenth day of October, in the year of our Lord two thousand fifteen, and of the Independence of the United States of America the two hundred and fortieth.

[FR Doc. 2015-27107

Filed 10-21-15; 11:15 am]

Billing code 3295-F6-P